DEPARTMENT OF AGRICULTURE

Forest Service

Chippewa National Forest Resource Advisory Committee

AGENCY: Forest Service, USDA.

ACTION: Notice of meeting.

SUMMARY: The Chippewa National Forest Resource Advisory Committee will meet in Grand Rapids, Minnesota. The committee is meeting as authorized under the Secure Rural Schools and Community Self-Determination Act (Pub. L. 110-343) and in compliance with the Federal Advisory Committee Act. The purpose of the meeting is to orient the new Chippewa National Forest Resource Advisory Committee members on their roles and responsibilities.

DATES: The meeting will be held on Thursday, October 7, 2010, at 9:45 a.m.

ADDRESSES: The meeting will be held at the Minnesota Interagency Fire Center, Training Room, 402 11th Street, SE., Grand Rapids, Minnesota 55744. Written comments should be sent to Chippewa National Forest RAC, 200 Ash Avenue, NW., Cass Lake, MN 56633. Comments may also be sent via e-mail to kgetting@fs.fed.us, or via facsimile to 218-335-8637.

All comments, including names and addresses when provided, are placed in the record and are available for public inspection and copying. The public may inspect comments received at the Chippewa National Forest Supervisors Office. Visitors are encouraged to call ahead to 218-335-8600 to facilitate entry into the building.

FOR FURTHER INFORMATION CONTACT: Kay K. Getting, Public Affairs Team Leader, Chippewa National Forest Supervisors Office, 218-335-8600.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Overview of the roles and responsbilities of the Chippewa National Forest Resource Advisory Committee members; Election of officers, Development of rules and operational guidelines; Public forum on when and how to submit project proposals. The agenda and any applicable documents may be previewed at http://fs.usda.gov/chippewa. Persons who wish to bring related matters to the attention of the Committee may file written statements with the Committee staff before or after the meeting. Public input sessions will be provided and individuals who made written requests by October 1, 2010 will have the opportunity to address the Comittee at those sessions.

Dated: September 9, 2010.
Robert N. Schmal,
Acting Chippewa National Forest Supervisor.

[FR Doc. 2010-23566 Filed 9-20-10; 8:45 am]

BILLING CODE 3410-11-P